DEPARTMENT OF COMMERCE

National Oceanic and Atmospheric Administration

[I.D. 021904B]

Advisory Committee to the U.S. Section to the International Commission for the Conservation of Atlantic Tunas (ICCAT); Spring Species Working Group Meeting

AGENCY: National Marine Fisheries Service (NMFS), National Oceanic and Atmospheric Administration (NOAA), Commerce.

ACTION: Notice of public meeting.

SUMMARY: The Advisory Committee to the U.S. Section to ICCAT announces its spring meeting from March 15 to 17, 2004. The Advisory Committee will hold a workshop on the first day of the spring meeting, March 15, 2004, to discuss the upcoming ICCAT intersessional meeting on integrated and coordinated management of Atlantic bluefin tuna. Following the workshop, the Advisory Committee will meet with its Species Working Group Technical Advisors on March 16 and 17, 2004.

DATES: The open sessions of the Committee meeting will be held on March 15, 2004, from 8:30 a.m. to 12 p.m., on March 16, 2004, from 8:30 a.m. to 12 p.m., and on March 17, 2004, from 8:30 a.m. to 9 a.m and from 10:30 a.m. to 12:30 a.m.. Closed sessions will be held on March 15, 2004, from 1:30 p.m. to approximately 6 p.m., on March 16, 2004, from 1:30 p.m. to approximately 6 p.m., and on March 17, 2004, from 9 a.m. to 10:30 p.m.

ADDRESSES: The meeting will be held at the Holiday Inn Hotel, 8777 Georgia Avenue, Silver Spring, Maryland 20910.

FOR FURTHER INFORMATION CONTACT: Erika Carlsen at (301) 713-2276.

SUPPLEMENTARY INFORMATION: The Advisory Committee to the U.S. Section to ICCAT will meet in an open session on March 15, 2004, for a workshop to receive and discuss information on the upcoming ICCAT intersessional on integrated and coordinated management of Atlantic bluefin tuna, including Atlantic bluefin tuna stock composition; a historical review of Atlantic bluefin tuna management; and the 2001 ICCAT report on bluefin tuna mixing. In addition, the Committee will receive information on the results of the review of bluefin tuna and marlin landings estimates previously reported to ICCAT. The Advisory Committee will meet again in an open session on March 16 and 17, 2004, to receive and discuss information on (1) the 2003 ICCAT meeting results and U.S. implementation of ICCAT decisions; (2) 2003 ICCAT and NMFS research and monitoring activities; (3) 2004 Commission activities; (4) the Atlantic Tunas Convention Act required consultation on the identification of countries that are diminishing the effectiveness of ICCAT; (5) the results of the meetings of the Committee's Species Working Groups; and (6) other matters relating to the international management of ICCAT species. The public will have access to the open sessions of the meeting, but there will be no opportunity for public comment.

The Advisory Committee will go into executive session during part of the afternoon of March 15, 2004, to discuss sensitive information relating to upcoming international negotiations. In addition, the Committee will meet in its Species Working Groups for a portion of the afternoon of March 16 and morning of March 17, 2004. These sessions are not open to the public, but the results of the species working group discussions will be reported to the full Advisory Committee during the Committee's morning open session on March 17.

Special Accommodations

The meeting location is physically accessible to people with disabilities. Requests for sign language interpretation or other auxiliary aids should be directed to Erika Carlsen at (301) 713-2276 at least 5 days prior to the meeting date.

Dated: February 24, 2004.
Bruce C. Morehead,
Acting Director, Office of Sustainable Fisheries, National Marine Fisheries Service.

[FR Doc. 04-4516 Filed 2-27-04; 8:45 am]

BILLING CODE 3510-22-S